DEPARTMENT OF HEALTH AND HUMAN SERVICES

Meeting of the Presidential Advisory Council on HIV/AIDS

AGENCY: Office of the Secretary, Office of Public Health and Science, Department of Health and Human Services.

ACTION: Notice.

SUMMARY: As stipulated by the Federal Advisory Committee Act, the Department of Health and Human Services (DHHS) is hereby giving notice that the Presidential Advisory Council on HIV/AIDS (PACHA) will hold a meeting. This meeting is open to the public. A description of the Council's functions is included also with this notice.

DATE AND TIME: March 16, 2006, 8 a.m. to 5 p.m., and March 17, 2006, 8 a.m. to 4 p.m.

ADDRESSES: Hubert H. Humphrey Building, 200 Independence Avenue, SW., Washington, DC 20201, in Room 800.

FOR FURTHER INFORMATION CONTACT: Dana Ceasar, Program Assistant, Presidential Advisory Council on HIV/AIDS, Department of Health and Human Services, Hubert H. Humphrey Building, 200 Independence Avenue, SW., Room 351F, Washington, DC 20201; (202) 690-2470 or visit the Council's Web site at http://www.pacha.gov.

SUPPLEMENTARY INFORMATION: PACHA was established by Executive Order 12963, dated June 14, 1995, as amended by Executive Order 13009, dated June 14, 1996. The Council was established to provide advice, information, and recommendations to the Secretary regarding programs and policies intended to (a) promote effective prevention of HIV disease, (b) advance research on HIV and AIDS, and (c) promote quality services to persons living with HIV disease and AIDS. PACHA was established to serve solely as an advisory body to the Secretary of Health and Human Services. The Council is composed of not more than 21 members. Council membership is determined by the Secretary from individuals who are considered authorities with particular expertise in, or knowledge of, matters concerning HIV/AIDS.

The agenda for this Council meeting includes the following topics: disparities in HIV/AIDS health care, HIV/AIDS prevention, and HIV/AIDS international issues. Members of the public will have the opportunity to provide comments at the meeting. Public comment will be limited to three (3) minutes per speaker.

Public attendance is limited to space available and pre-registration is required. Any individual who wishes to participate should register at http://www.pacha.gov. Individuals must provide a photo ID for entry into the Humphrey building. Individuals who plan to attend and need special assistance, such as sign language interpretation or other reasonable accommodations, should indicate in the comment section when registering.

Members of the media/press should contact HHS Press Office for clearance at (202) 690-6343.

Dated: February 2, 2006.
Joseph Grogan,
Executive Director, Presidential Advisory Council on HIV/AIDS.

[FR Doc. E6-2290 Filed 2-16-06; 8:45 am]

BILLING CODE 4150-43-P